NATIONAL CREDIT UNION ADMINISTRATION

Sunshine Act; Notice of Agency Meeting

TIME AND DATE: 11 a.m., Wednesday, June 30, 2010.

PLACE: Board Room, 7th Floor, Room 7047, 1775 Duke Street, Alexandria, VA 22314-3428.

STATUS: Closed.

Matter To Be Considered

1. Consideration of Supervisory Activities. Closed pursuant to Exemptions (8), (9)(A)(ii) and (9)(B).

FOR FURTHER INFORMATION CONTACT: Mary Rupp, Secretary of the Board, Telephone: 703-518-6304.

Board Secretary,
Mary Rupp.

[FR Doc. 2010-15957 Filed 6-25-10; 4:15 pm]

BILLING CODE P